DEPARTMENT OF LABOR

Employment and Training Administration

Determinations Regarding Eligibility To Apply for Trade Adjustment Assistance

In accordance with Sections 223 and 284 (19 U.S.C. 2273 and 2395) of the Trade Act of 1974 (19 U.S.C. 2271, et seq.) (“Act”), as amended, the Department of Labor herein presents summaries of determinations regarding eligibility to apply for trade adjustment assistance under Chapter 2 of the Act (“TAA”) for workers by (TA-W) issued during the period of October 1, 2021 through October 31, 2021.

This notice includes summaries of initial determinations such as Affirmative Determinations of Eligibility, Negative Determinations of Eligibility, and Determinations Terminating Investigations of Eligibility within the period. If issued in the period, this notice also includes summaries of post-initial determinations that modify or amend initial determinations such as Affirmative Determinations Regarding Applications for Reconsideration, Negative Determinations Regarding Applications for Reconsideration, Revised Certifications of Eligibility, Revised Determinations on Reconsideration, Negative Determinations on Reconsideration, Revised Determinations on remand from the Court of International Trade, and Negative Determinations on remand from the Court of International Trade.

Affirmative Determinations for Trade Adjustment Assistance

The following certifications have been issued.

TA-W No. | Subject firm | Location | Reason(s)
96,624 | Paulsboro Refining Company, LLC | Paulsboro, NJ | Customer Imports of Articles.
98,002 | Emerson Automation Solutions Final Control US LP | Black Mountain, NC | Shift in Production to an FTA Country or Beneficiary.
98,031 | Augusta Sportswear | Coburg, OR | Shift in Production to an FTA Country or Beneficiary.

Negative Determinations for Trade Adjustment Assistance

The following investigations revealed that the eligibility criteria for TAA have not been met for the reason(s) specified.

TA-W No. | Subject firm | Location | Reason(s)
97,027 | The McCall Pattern Company, Inc | Manhattan, KS | No Shift in Production or Other Basis.
98,055 | Woodhead Industries, LLC | El Paso, TX | Workers Do Not Produce an Article.

I hereby certify that the aforementioned determinations were issued during the period of October 1, 2021 through October 31, 2021. These determinations are available on the Department's website https://www.dol.gov/agencies/eta/tradeact under the searchable listing determinations or by calling the Office of Trade Adjustment Assistance toll free at 888-365-6822.

Signed at Washington, DC, this 4th day of November 2021.
Hope D. Kinglock,
Certifying Officer, Office of Trade Adjustment Assistance.

[FR Doc. 2021-25040 Filed 11-16-21; 8:45 am]

BILLING CODE 4510-FN-P